DEPARTMENT OF ENERGY

Environmental Management Site-Specific Advisory Board, Northern New Mexico

AGENCY: Department of Energy.

ACTION: Notice of open meeting.

SUMMARY: This notice announces a meeting of the Environmental Management Site-Specific Advisory Board (EM SSAB), Northern New Mexico. The Federal Advisory Committee Act (Pub. L. No. 92-463, 86 Stat. 770) requires that public notice of this meeting be announced in the Federal Register.

DATES: Wednesday, May 13, 2009; 9 a.m.-5 p.m. Thursday, May 14, 2009; 9 a.m.-5 p.m.

ADDRESSES: Courtyard by Marriott, 3347 Cerrillos Road, Santa Fe, New Mexico.

FOR FURTHER INFORMATION CONTACT: Menice Santistevan, Northern New Mexico Citizens' Advisory Board (NNMCAB), 1660 Old Pecos Trail, Suite B, Santa Fe, NM 87505. Phone (505) 995-0393; Fax (505) 989-1752 or E-mail: msantistevan@doeal.gov.

SUPPLEMENTARY INFORMATION: Purpose of the Board: The purpose of the Board is to make recommendations to DOE in the areas of environmental restoration, waste management, and related activities.

Tentative Agenda

Retreat—Wednesday, May 13, 2009

9 a.m. Welcome and Introductions, J.D. Campbell.

9:05 a.m. Round Robin—Expectations for Retreat, Board Members.

9:15 a.m. Board Member Discussion with Designated Federal Officer, Cate Brennan.

10 a.m. Environmental Justice Presentation, Brandt Petrasek.

11 a.m. Break.

11:15 a.m. Introduction for New Members, DOE Staff.

12 p.m. Lunch Break.

1 p.m. DOE Los Alamos Site Office (LASO) Top Three Issues, DOE Staff.

2 p.m. New Mexico Environment Department Pending Issues, James Bearzi.

2:30 p.m. Environmental Protection Agency Pending Issues, Rich Mayer.

3 p.m. Break.

3:15 p.m. Presentation for Environmental Justice Conference, Mike Loya.

4 p.m. Wrap up Discussion.

5 p.m. Adjourn.

Meeting—Thursday, May 14, 2009

9 a.m. Call to Order by Deputy Designated Federal Officer, Jeff Casalina.

Establishment of a Quorum, Lorelei Novak.

Welcome and Introductions, J.D. Campbell.

Approval of Agenda, J.D. Campbell.

Approval of Minutes of March 25, 2009, Board Meeting, J.D. Campbell.

9:15 a.m. Old Business.

• Written Reports

• Open Discussion from Board Members

9:30 a.m. New Business.

• Open Discussion from Board Members

9:45 a.m. Committee Reports.

• Waste Management Committee, Gerry Maestas

• Environmental Monitoring and Surveillance Committee, Mike Loya

10:15 a.m. Ad Hoc Committee Reports.

• Fiscal Year 2011 DOE/EM Budget, Kathleen Hall

• Public Participation, Peter Baston

10:30 a.m. Break.

10:45 a.m. Presentation by Eight Northern Indian Pueblos, Boyd Nystedt.

12 p.m. Lunch.

1 p.m. LASO Presentation on DOE/Los Alamos National Laboratory Implementation of NNMCAB Recommendations, Jeff Casalina.

1:30 p.m. Public Comment Period.

1:45 p.m. Environmental Justice Presentation, Mike Loya.

2:00 p.m. Consideration and Action on Draft Recommendations.

3:30 p.m. Presentation on Buckman Direct Diversion Project, Rick Carpenter.

4:30 p.m. Open Discussion from Board Members.

• Press Releases, Editorials, etc.

• Future Presentation Topics

• Other items

5 p.m. Adjourn, Jeff Casalina.

Public Participation: The EM SSAB, Northern New Mexico, welcomes the attendance of the public at its advisory committee meetings and will make every effort to accommodate persons with physical disabilities or special needs. If you require special accommodations due to a disability, please contact Menice Santistevan at least seven days in advance of the meeting at the telephone number listed above. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling Menice Santistevan at the address or phone number listed above. Minutes and other Board documents are on the Internet at: http://www.nnmcab.org/minutes/board-minutes.htm.

Issued at Washington, DC on April 13, 2009.
Rachel Samuel,
Deputy Committee Management Officer.

[FR Doc. E9-8844 Filed 4-16-09; 8:45 am]

BILLING CODE 6450-01-P